DEPARTMENT OF THE TREASURY

Internal Revenue Service

Proposed Information Collection; Comment Request

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning Form 1094-C, Transmittal of Employer-Provided Health Insurance Offer and Coverage Information Returns, and 1095-C, Employer-Provided Health Insurance Offer and Coverage.

DATES: Written comments should be received on or before November 3, 2014 to be assured of consideration.

ADDRESSES: Direct all written comments to Stacey Becker, Internal Revenue Service, Room 6526, 1111 Constitution Avenue NW., Washington, DC 20224.

FOR FURTHER INFORMATION CONTACT: Requests for additional information or copies of the regulations should be directed to Christie Preston, Internal Revenue Service, Room 6129, 1111 Constitution Avenue NW., Washington, DC 20224, or through the Internet at Christie.A.Preston@irs.gov.

SUPPLEMENTARY INFORMATION:

Title: Form 1094-C, Transmittal of Employer-Provided Health Insurance Offer and Coverage Information Returns, and 1095-C, Employer-Provided Health Insurance Offer and Coverage.

OMB Number: 1545-2251.

Form Numbers: 1094-C and 1095-C.

Abstract: The IRS developed Forms 1094-C and 1095-C under the authority of IRC section 6056, added by P.L. 111-148, Patient Protection and Affordable Care Act (ACA), section 1514(a), as amended by section 10108(j). Section 6056 requires large employers, within the meaning of IRC section 4980H(c)(2), to file with the IRS returns reporting certain information about the health care coverage the employer offered with respect to each full-time employee, and to furnish to each full-time employee a related statement. Form 1094-C serves as a transmittal for Form 1095-C, Employer-Provided Health Insurance Offer and Coverage.

Current Actions: Seeking OMB approval to add Forms 1094-C and 1095-C under this current approval number.

Type of Review: Revision to a currently approved collection.

Affected Public: Business or other for-profit organizations, not for profit institutions, federal government, and state, local, or tribal governments.

Note about Estimates: Filing Forms 1094-C and 1095-C is voluntary for tax year 2014 and the number of voluntary filers is highly uncertain. Accordingly, comments are requested on the estimated number of responses and the estimated total annual burden hours. Filing is mandatory for tax year 2015. Accordingly these burden estimates will be updated as appropriate.

1094-C:

Estimated Number of Responses: TBD.

Estimated Time Per Response: 240 minutes.

Estimated Total Annual Burden Hours: TBD.

1095-C:

Estimated Number of Responses: TBD.

Estimated Time Per Response: 12 minutes.

Estimated Total Annual Burden Hours: TBD.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Estimated number of responses and estimated total annual burden hours; (b) whether the collection of information is necessary for the proper performance of the functions of the agency, including whether the information shall have practical utility; (c) the accuracy of the agency's estimate of the burden of the collection of information; (d) ways to enhance the quality, utility, and clarity of the information to be collected; (e) ways to minimize the burden of the collection of information on respondents, including through the use of automated collection techniques or other forms of information technology; and (f) estimates of capital or start-up costs and costs of operation, maintenance, and purchase of services to provide information.

Approved: August 27, 2014.
Stacey Becker,
Director, Tax Forms and Publications Division.

[FR Doc. 2014-20802 Filed 8-28-14; 4:15 pm]

BILLING CODE 4830-01-P